DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

Joel S. Ario,

Julia G. Bataille,

Mirtha R. Beadle,

Melanie M. Bella,

Sherri A. Berger,

Angela Billups,

Gary L. Cantrell,

Patrick H. Conway,

Kathleen M. Crosby,

John Czajkowski,

Cheryl R. Dammons,

Michelle S. Davis,

Nancy E. De Lew,

Theodore M. Doolittle,

Gregory J. Downing,

Ivor D'Souza,

Kana Enomoto,

Michael E. Etzinger,

Douglas B. Fridsma,

Alexandra B. Garcia,

Amy L. Haseltine,

Robert F. Heil Jr.,

Jay M. Hodes,

David E. Hohman,

Barbara J. Holland,

Richard Ikeda,

Christine Jones,

Melanie M. Keller,

Gia Lee,

Nancy C. Lee,

Eric N. Lindblom,

Michael W. McCauley,

Eileen C. McDaniel,

Matthew D. McKearn,

Joy M. Miller,

Valerie E. Morgan Alston,

Michael J. Nelson,

Dawn M. O'Connell,

Robert F. Owens Jr.,

Jennifer L. Parker,

Aida M. Perez,

Cheri M. Rice,

Geoffrey Roth,

Roberto Ruiz,

Dorinda A. Salcido,

Daniel J. Schreiner,

William B. Schultz,

Neil Shapiro,

Jeremy B. Sharp,

George H. Sheldon,

Steven D. Silverman,

Rebecca T. Slifkin,

Douglas F. Small,

Nancy K. Stade,

Christian J. Stenrud,

Bridgett E. Taylor,

Brian G. Trent,

James E. Tyler Jr.,

Stephen J. Veneruso,

Karen V. Walker Bryce,

Luis A. Wilmot,

Holly J. Wong,

Robert K. Yee,

Cheryl L. Ziegler Ragland.

Non-SES:

Barbara Bowman,

Christine Branche,

Michael Gottesman,

Anne Haddix,

Steven Musser,

Jan Nicholson,

Steven Pollack,

Tanja Popovic,

Steve Redd,

Sally Rockey,

Jonathan Sackner-Bernstein,

Tom Sinks,

William Slikker,

Lawrence Tabak,

Carolyn Wilson,

Robert Yetter.

Dated: September 13, 2011.
Denise L. Wells,
Deputy Assistant Secretary for Human Resources, Department of Health and Human Services.

[FR Doc. 2011-24039 Filed 9-19-11; 8:45 am]

BILLING CODE P